FEDERAL TRADE COMMISSION

Granting of Request for Early Termination of the Waiting Period Under the Premerger Notification Rules

Section 7A of the Clayton Act, 15 U.S.C. 18a, as added by Title II of the Hart-Scott Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

TRANSACTION GRANTED EARLY TERMINATION
Et date | Trans num | Et req status | Party name
20-DEC-10 | 20110142 | G | McKesson Corporation.
|  | G | Welsh, Carson, Anderson & Stowe IX, L.P.
|  | G | US Oncology Holdings, Inc.
| 20110293 | G | Boston Scientific Corporation.
|  | G | Sadra Medical, Inc.
|  | G | Sadra Medical, Inc.
| 20110297 | G | The NASDAQ OMX Group, Inc.
|  | G | Vat E Vaden.
|  | G | FTEN, Inc.
| 20110357 | G | Oak Hill Capital Partners II, L.P.
|  | G | Vantage Oncology, Inc.
|  | G | Vantage Oncology, Inc.
| 20110358 | G | Vantage Oncology, Inc.
|  | G | Oak Hill Capital Partners II, L.P.
|  | G | Physician Oncology Services, LLC.
| 20110372 | G | Ebro Foods S.A.
|  | G | Ricegrowers Limited
|  | G | Ricegrowers Limited.
| 20110378 | G | Brightpoint, Inc.
|  | G | The Richard Arnesen Graham Family Descendants' Trust.
|  | G | Touchstone Wireless Repair and Logistics, LP.
| 20110379 | G | Aetna, Inc.
|  | G | Medicity, Inc.
|  | G | Medicity, Inc.
| 20110384 | G | Illinois Tool Works Inc.
|  | G | Royal Dutch Shell plc.
|  | G | Pennzoil-Quaker State Company.
21-DEC-10 | 20110377 | G | Helen of Troy Limited.
|  | G | Kaz, Inc.
|  | G | Kaz, Inc.
23-DEC-10 | 20110304 | G | Roche Holding Ltd.
|  | G | Marcadia Biotech, Inc.
|  | G | Marcadia Biotech, Inc.
27 EC-10 | 20110318 | G | STG III, L.P.
|  | G | CoreLogic, Inc.
|  | G | First Advantage Tax Consulting Services LLC.
|  | G | First Advantage Litigation Consulting LLC.
|  | G | First Advantage Eurasia Litigation Consulting.
|  | G | CoreLogic, Inc.
|  | G | Accufacts Pre-Employment Screening, Inc.
|  | G | First Advantage Canada, Inc.
|  | G | First Advantage Europe Ltd.
|  | G | Verify Limited.
|  | G | First Advantage Japan KK.
|  | G | First Advantage Occupational Health Services Corp.
|  | G | First Advantage Enterprise Screening Corp.
|  | G | First Advantage Background Services Corp.
|  | G | First American Indian Holdings, LLC.
|  | G | Pride Rock Holding Company, Inc.
|  | G | First Advantage Philippines, Inc.
|  | G | First Advantage Australasia Pty. Ltd.
|  | G | First Advantage (Beijing) Co. Ltd.
|  | G | First Advantage Quest Research Group Ltd.
|  | G | First Advantage Litigation Consulting Japan GK.
| 20110391 | G | H.I.G. Bayside Debt & LBO Fund II, L.P.
|  | G | Matrixx Initiatives, Inc.
|  | G | Matrixx Initiatives, Inc.
| 20110393 | G | Prestige Brands Holdings, Inc.
|  | G | Johnson & Johnson. G McNEIL-PPC, Inc.
| 20110395 | G | PBF Energy Company LLC.
|  | G | Sunoco, Inc.
|  | G | Sunoco, Inc. (R&M).
| 20110396 | G | TPG VI DE AIV II, L.P.
|  | G | Ashland Inc.
|  | G | Ashland International Holdings, Inc.
|  | G | Ashland Licensing and Intellectual Property LLC.
| 20110398 | G | Exxon Mobil Corporation.
|  | G | Petrohawk Energy Corporation.
|  | G | One Tec, LLC.
|  | G | KCS Resources, LLC.
|  | G | Petrohawk Properties, LP.
|  | G | Hawk Field Services, LLC.
|  | G | Petrohawk Operating Company.
|  | G | One Tec Operating, LLC.
27-DEC-10 | 20110399 | G | Lennox International Inc.
|  | G | The Manitowoc Company, inc.
|  | G | Kysor Industrial Corporation.
|  | G | Kysor Warren de Mexicp S.de. R.L. de C.V.
| 20110406 | G | Carl C. Icahn.
|  | G | Dynegy Inc.
|  | G | Dynegy Inc.
| 20110407 | G | China Huaneng Group.
|  | G | InterGen N.V.
|  | G | InterGen N.V.
| 20110408 | G | Grupo Empresarial Kaluz, S.A. de C.V.
|  | G | Rockwood Holdings, Inc.
|  | G | AlphaGary Corporation.
28-DEC-10 | 20100854 | G | Keystone Holdings, LLC.
|  | G | Compagnie de Saint-Gobain.
|  | G | Saint-Gobain Ceramics & Plastics, Inc.
|  | G | Saint-Gobain Advanced Ceramics Corporation.
| 20110394 | G | Aceto Corporation.
|  | G | Ronald Gold.
|  | G | Rising Pharmaceuticals, Inc.
29-DEC-10 | 20110402 | G | M & F Worldwide Corp.
|  | G | Knowledge Universe Limited LLC.
|  | G | KUED Sub II LLC.
|  | G | KUE Digital Inc.
|  | G | KUED Sub I LLC.
30-DEC-10 | 20110385 | G | Fairfax Financial Holdings Limited.
|  | G | AbitibiBowater Inc.
|  | G | AbitibiBowater Inc.

FOR FURTHER INFORMATION CONTACT: Sandra M. Peay, Contact Representative or Renee Chapman, Contact Representative, Federal Trade Commission, Premerger Notification Office, Bureau Of Competition, Room H-303, Washington, DC 20580, (202) 326-3100.

By Direction of the Commission.
Donald S. Clark,
Secretary.

[FR Doc. 2011-334 Filed 1-11-11; 8:45 am]

BILLING CODE 6750-01-M